DEPARTMENT OF COMMERCE

International Trade Administration

[A-570-501]

Natural Bristle Paint Brushes and Brush Heads From the People's Republic of China: Amended Final Results of Antidumping Duty Administrative Review

AGENCY: Import Administration, International Trade Administration, U.S. Department of Commerce.

ACTION: Notice of amended final results of administrative review: natural bristle paint brushes and brush heads from the People's Republic of China.

DATES: Effective Date: September 15, 2000.

FOR FURTHER INFORMATION CONTACT: Sarah Ellerman or Maureen Flannery, Antidumping/Countervailing Duty Enforcement, Import Administration, International Trade Administration, U.S. Department of Commerce, 14th Street and Constitution Avenue, NW., Washington, DC 20230; telephone (202) 482-4106 or (202) 482-3020, respectively.

Applicable Statute

Unless otherwise indicated, all citations to the statute are references to the provisions effective January 1, 1995, the effective date of the amendments made to the Tariff Act of 1930 (the Act) by the Uruguay Round Agreements Act (URAA). In addition, unless otherwise indicated, all citations to the Department's regulations are to the provisions codified at 19 CFR part 351 (1999).

Scope of Review

Imports covered by this review are shipments of natural bristle paint brushes and brush heads from the PRC. Excluded from the review are paint brushes and brush heads with a blend of 40% natural bristles and 60% synthetic filaments. The merchandise under review is currently classifiable under item 9603.40.40.40 of the Harmonized Tariff Schedule of the United States (HTSUS). Although the HTSUS subheading is provided for convenience and customs purposes, the Department's written description of the merchandise is dispositive.

Background

On July 25, 2000, the Department published the final results of its administrative review of the antidumping duty order on natural bristle paint brushes and paint brush heads from the People's Republic of China (65 FR 45753). This review covers two manufacturers/exporters of the subject merchandise, Hebei Founder Import & Export Company (Founder) and Hunan Provincial Native Produce & Animal By-Products Import & Export Corporation (Hunan), for the period February 1, 1998 through January 31, 1999. The petitioner is the Paint Applicator Division of the American Brush Manufacturers Association (petitioner). After publication of our final results, we received timely allegations from both Founder and petitioner that we made ministerial errors in calculating the final results of review. In addition, petitioner made a timely response to Founder's ministerial error allegation. We agree that ministerial errors were made and have corrected our calculations in accordance with section 751 (h) of the Tariff Act.

Analysis of Ministerial Error Allegations Received From Interested Parties

As defined by section 751(h) of the Act, the term ministerial error includes errors “in addition, subtraction, or other arithmetic function, clerical errors resulting from inaccurate copying, duplication, or the like, and any other type of unintentional error which the [Department] considers ministerial.”

We received one ministerial error allegation from Founder stating that the Department calculated the cost of inland freight for Founder on a per-kilogram basis rather than on a per-brush basis. Founder argues that, in order to correct this error, the Department should divide the cost per kilogram by the weight of the two-inch and four-inch brush, respectively, to determine the inland freight cost per brush. Petitioner counters that, if the Department determined that it made a ministerial error in its calculation of inland freight, then the Department should not adopt Founder's proposed correction because Founder's proposed correction would fail to account for the packed weight of each brush. Petitioner argues that the cost of inland freight should be based on packed weight because the brushes are shipped from the factory to the port in packaged form. Thus, petitioner contends that the Department should add the per-unit weights of poly-bags, boxes, and cartons to the weight of each brush before calculating a weight-based, per-unit inland freight cost.

We agree with Founder that we calculated the cost of inland freight on a per-kilogram basis, rather than on a per-piece basis; however, we disagree with Founder's methodology to rectify this error. Rather than divide the cost per kilogram by the weight of the two-inch and four-inch brush respectively, we should multiply the cost per kilogram by the weight of the two-inch and four-inch brushes, thereby deriving a cost per brush. In addition, we agree with petitioner that Founder's methodology fails to account for the packed weight of each brush. Therefore, we have added the per-unit weights of poly-bags, boxes, and cartons to the weight of the individual brush to base the cost of inland freight on packed weights. We have subsequently made these changes to the calculations for both the two-inch and four-inch brushes for the amended final results. For further information with regard to the changes made in our calculations, see Memorandum to the File from Michael Strollo through Maureen Flannery: Analysis of Hebei Founder Import and Export Corp. (Founder) for the Amended Final Results of Review of Natural Bristle Paintbrushes and Brush Heads from the People's Republic of China (Founder Amended Analysis Memo), dated August XX, 2000.

We also received ministerial error allegations from petitioner. Petitioner stated that (1) the Department did not use the most current wage rates for valuing both manufacturing and packing labor, and (2) the Department did not implement its intentions with respect to the valuation of wooden core for respondent Founder. Petitioner contends that, after case and rebuttal briefs were filed in this review, the Department published an updated wage rate of $0.80 for China based on 1998 data. Petitioner maintains that this is the most current and contemporaneous wage rate that is available to value labor. Therefore, petitioner argues that, consistent with the regulations, the Department should amend the final results to incorporate the most current wage rate data.

With regard to the Department's valuation of Founder's wooden core, petitioner refers to the Memorandum to the File from Mike Strollo through Maureen Flannery: Analysis of Hebei Animal By-Product Import/Export Corp., now Hebei Founder Import and Export Corp. (Founder), for the Final Results of Review of Natural Bristle Paintbrushes and Brush Heads from the People's Republic of China, dated July 13, 2000. In that memorandum, the Department stated that, as facts available, it intended to use the surrogate value for bristles to value the bristle/wooden core factor for both the two-inch and four-inch brushes weighed during the verification of Founder. Petitioner contends, however, that the Department valued the weight of the bristle, using the same weights for the final results that it used in the preliminary results.

We agree with petitioner that the Department unintentionally failed to use the most current wage rates for valuing labor for both Founder and Hunan. Since a more current wage rate is publicly available at the Import Administration web-site, we should have updated our analysis for the final results to reflect the most current data. We also agree with petitioner that we failed to properly implement its intentions with respect to the valuation of wooden core for Founder. We have made these suggested corrections for the amended final results. For more information on these changes with respect to the revised calculations of weighted-average dumping margins, please refer to the Founder Amended Analysis Memo and Memorandum to the File from Michael Strollo through Maureen Flannery: Analysis of Hunan Provincial Native Produce & Animal By-Products Import & Export Corp. (Hunan) for the Amended Final Results of Review of Natural Bristle Paintbrushes and Brush Heads from the People's Republic of China, dated August 24, 2000.

Amended Final Results of Review

As a result of correcting these ministerial errors, we have revised our final results and determine that the following weighted-average margins exist for the period February 1, 1998 through January 31, 1999:

Manufacturer/exporter | Margin (percent)
Hunan Provincial Native Produce & Animal By-Products Import & Export Corp. | 0.00
Hebei Founder Import & Export Company | 32.74
PRC-Wide Rate | 351.92

Accordingly, the Department will determine, and the Customs Service will assess, antidumping duties on all entries of subject merchandise from Hunan and Founder in accordance with these amended final results. For assessment purposes, we have calculated importer-specific duty assessment rates for each class or kind of merchandise based on the ratio of the total amount of antidumping duties calculated for the examined sales during the period of review (POR) to the total quantity of sales examined during the POR. The Department will issue appraisement instructions directly to Customs.

Amended Cash Deposit Requirements

The following amended deposit requirements will be effective upon publication of this notice of amended final results of administrative review for all shipments of natural bristle paint brushes and paint brush heads from the PRC entered, or withdrawn from warehouse, for consumption on or after the publication date, as provided for by section 751(a)(2)(c) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 351.92 percent; and (4) for all other non-PRC exporters of the subject merchandise, the cash deposit rate will be the rate applicable to the PRC supplier of that exporter.

This amended final results of administrative review and notice are in accordance with section 751(a)(1) and section 777(i) of the Act.

Dated: August 22, 2000.
Troy H. Cribb,
Acting Assistant Secretary for Import Administration

[FR Doc. 00-23794 Filed 9-14-00; 8:45 am]

BILLING CODE 3510-DS-P